DEPARTMENT OF DEFENSE

Department of the Navy

Redesignation of the Naval Reserve as the Navy Reserve

AGENCY: Department of the Navy, DoD.

ACTION: Policy statement.

SUMMARY: The Department of the Navy (DON) hereby gives notice of the redesignation of the Naval Reserve as the Navy Reserve.

DATES: This policy is effective 1 January 2006.

FOR FURTHER INFORMATION CONTACT: Lieutenant Commander Robert Carretta, Office of Legislative Affairs, 1300 Navy Pentagon, Room 4C549, Washington, DC 20350-1300, 703-697-2871.

SUPPLEMENTARY INFORMATION: The Ronald W. Reagan National Defense Authorization Act for Fiscal Year 2005 (Pub. L. 108-375) Sec. 517, authorized the Secretary of the Navy, with approval of the President of the United States, to redesignate the Reserve Component known as the “Naval Reserve” to the “Navy Reserve.” Subsequently, the President of the United States granted approval for this redesignation on 29 April 2005. Section 517 further stated that following delivery of conforming legislation to the Armed Services Committees, the formal redesignation may occur no earlier than 180 days from that date of delivery. As the requisite conforming legislation was delivered to the Armed Services Committees on 16 June 2005, the effective date of the redesignation is 1 January 2006.

The Department of the Navy considers this policy statement to be a procedural change, which does not meet the definition of “significant regulatory action” for purposes of Executive Order 12866, as amended by Executive Order 13258 and does not impose collection of information requirements for purposes of the Paperwork Reduction Act (44 U.S.C. Chapter 35, 5 CFR Part 1320).

Dated: December 16, 2005.
Eric McDonald,
Lieutenant Commander, Judge Advocate General's Corps, U.S. Navy, Federal Register Liaison Officer.

[FR Doc. 05-24349 Filed 12-21-05; 8:45 am]

BILLING CODE 3810-FF-P